DEPARTMENT OF TRANSPORTATION

Federal Aviation Administration

Notice of Intent of Waiver With Respect to Land; Youngstown Regional Airport, Youngstown, Ohio

AGENCY: Federal Aviation Administration (FAA), DOT.

ACTION: Notice.

SUMMARY: The FAA is considering a proposal to change approximately 36.1875 acres of airport land from aeronautical use to non-aeronautical use and to authorize the sale of airport property located at Youngstown Regional Airport, Youngstown, Ohio. The property is located in the northwest corner of the airport, outside the airfield fence and is separated from the airport by Ridge Road. The aforementioned land is proposed to be sold for warehousing/storage facilities and is not needed for aeronautical use.

DATES: Comments must be received on or before September 27, 2024.

ADDRESSES: All requisite and supporting documentation will be made available for review by appointment at the FAA Detroit Airports District Office, Marlon Pena, Program Manager, 11677 S Wayne Rd., Romulus, MI 48174. Telephone: (734) 229-2900/Fax: (734) 229-2950.

Written comments on the Sponsor's request may be submitted using any of the following methods:

• Federal eRulemaking Portal: Go to http://www.regulations.gov, and follow the instructions for sending your comments electronically.

• Mail: Marlon Pena, Program Manager, Federal Aviation Administration, Detroit Airports District Office, 11677 S Wayne Rd., Romulus, MI 48174-1412.

• Hand Delivery: Deliver to mail address above between 8 a.m. and 5 p.m. Monday through Friday, excluding Federal holidays.

• FAX: (734) 229-2950.

FOR FURTHER INFORMATION CONTACT: Marlon Pena, Program Manager, Federal Aviation Administration, Detroit Airports District Office, 11677 S Wayne Rd., Romulus, MI 48174. Telephone Number: (734) 229-2900/Fax: (734) 229-2950.

SUPPLEMENTARY INFORMATION: In accordance with section 47107(h) of Title 49, United States Code, this notice is required to be published in the Federal Register 30 days before modifying the land-use assurance that requires the property to be used for an aeronautical purpose.

The subject property is mostly wooded undeveloped land that was federally conveyed as part of a larger parcel under the Federal Property and Administrative Services Act of 1949, as amended, and the Surplus Property Act of 1944, as amended. The airport sponsor proposes to sell the land, at fair market value, to a private party to be developed as warehousing/storage facilities.

The disposition of proceeds from the sale of the airport property will be in accordance with FAA's Policy and Procedures Concerning the Use of Airport Revenue, published in the Federal Register on February 16, 1999 (64 FR 7696).

This notice announces that the FAA is considering the release of the subject airport property at the Youngstown Regional Airport, Youngstown, Ohio, from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Vienna Township, Trumbull County, State of Ohio

Known as being part of Section No. 44 in said Vienna Township (Township 4, Range 2) and being further bounded and described as follows:

Beginning at a ⅝-inch iron pin found on the westerly Right-of-Way line of Ridge Road (County Road 159/Right-of-Way varies/Plat Volume 47, Page 92) said point being a northeasterly corner of lands of Antique Tractor Club of Trumbull County, Inc. (Instrument No. 200807220018111);

Thence South 89°18′00″ West along the northerly line of said lands of Antique Tractor Club of Trumbull County, Inc. a distance of 1633.23 feet to a ⅝-inch iron pin found at the southeasterly corner of lands of A&N Land Company, LLC (Instrument No. 201901070000302);

Thence North 01°28′55″ West along the easterly line of said lands of A&N Land Company, LLC a distance of 1157.30 feet to a ⅝-inch iron pin set;

Thence North 89°17′40″ East through the lands of the Grantor and passing over a southerly corner of lands of the United States of America (Deed Volume 1051, Pages 80 and 95) a distance of 756.12 feet to a ⅝-inch iron pin set on the said westerly Right-of-Way line of Ridge Road;

Thence South 54°32′04″ East along said westerly line of Ridge Road a distance of 645.46 feet to a ⅝-inch iron pin set at a point of curvature;

Thence continuing along said westerly line of Ridge Road along a curve to the right having an arc distance of 834.88 feet a radius of 904.93 feet a delta angle of 52°51′39″ and a chord which bears South 28°06′15″ East a distance of 805.59 feet to a ⅝-inch iron pin set;

Thence South 01°40′25″ East continuing along said westerly line of Ridge Road a distance of 61.19 feet to the POINT OF BEGINNING and containing 1,576,325.47 square feet or 36.1875 acres of land, more or less.

Issued in Romulus, Michigan, on August 22, 2024.
Stephanie R. Swann,
Deputy Manager, Detroit Airports District Office, FAA, Great Lakes Region.

[FR Doc. 2024-19337 Filed 8-27-24; 8:45 am]

BILLING CODE 4910-13-P